U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on June 8, 2017 on “China's Relations with Northeast Asia and Continental Southeast Asia”.

DATES: The meeting is scheduled for Thursday, June 8, 2017, from 10:00 a.m. to 2:40 p.m.

ADDRESSES: Russell Senate Office Building, Room 485, Washington, DC. A detailed agenda for the hearing will be posted on the Commission's Web site at www.uscc.gov. Also, please check the Commission's Web site for possible changes to the hearing schedule. Reservations are not required to attend the hearing.

FOR FURTHER INFORMATION CONTACT: Any member of the public seeking further information concerning the hearing should contact Leslie Tisdale, 444 North Capitol Street NW., Suite 602, Washington, DC 20001; telephone: 202-624-1496, or via email at ltisdale@uscc.gov. Reservations are not required to attend the hearing.

SUPPLEMENTARY INFORMATION:

Background: This is the sixth public hearing the Commission will hold during its 2017 report cycle. This hearing will investigate China's relations with Northeast Asia (North Korea, South Korea, and Japan) and Continental Southeast Asia (Burma, Thailand, Laos, and Cambodia). Its investigation of issues in Northeast Asia will focus on the effect of tensions on the Korean Peninsula on China's bilateral relationships and approach to the region as a whole. Its investigation of issues in Continental Southeast Asia will focus on China's economic engagement with the region; regional countries' response to China's economic engagement; and China's role in the security dynamics of the region.

The hearing will be co-chaired by Commissioner Jonathan Stivers and Commissioner Robin Cleveland. Any interested party may file a written statement by June 8, 2017, by mailing to the contact information above. A portion of each panel will include a question and answer period between the Commissioners and the witnesses.

Authority: Congress created the U.S.-China Economic and Security Review Commission in 2000 in the National Defense Authorization Act (Public Law 106-398), as amended by Division P of the Consolidated Appropriations Resolution, 2003 (Pub. L. 108-7), as amended by Public Law 109-108 (November 22, 2005), as amended by Public Law 113-291 (December 19, 2014).

Dated: May 22, 2017.
Michael Danis,
Executive Director, U.S.-China Economic and Security Review Commission.

[FR Doc. 2017-10800 Filed 5-25-17; 8:45 am]

BILLING CODE 1137-00-P